OFFICE OF THE UNITED STATES TRADE REPRESENTATIVE

[Docket No. WTO/DS399/1]

WTO Dispute Settlement Proceeding Regarding United States—Certain Measures Affecting Imports of Certain Passenger Vehicle and Light Truck Tires From China

AGENCY: Office of the United States Trade Representative.

ACTION: Notice; request for comments.

SUMMARY: The Office of the United States Trade Representative (“USTR”) is providing notice that on September 14, 2009, the People's Republic of China (“China”) requested consultations with the United States under the Marrakesh Agreement Establishing the World Trade Organization (“WTO Agreement”) with respect to certain measures affecting the import of certain passenger vehicle and light truck tires from China (China tires) into the United States. That request may be found at http://www.wto.org contained in a document designated as WT/DS399/1. USTR invites written comments from the public concerning the issues raised in this dispute.

DATES: Although USTR will accept any comments received during the course of the dispute settlement proceedings, comments should be submitted on or before October 30 to be assured of timely consideration by USTR.

ADDRESSES: Public comments should be submitted electronically to http://www.regulations.gov, docket number USTR-2009-0035. If you are unable to provide submissions by http://www.regulations.gov, please contact Sandy McKinzy at (202) 395-9483 to arrange for an alternative method of transmission. If (as explained below) the comment contains confidential information, then the comment should be submitted by fax only to Sandy McKinzy at (202) 395-3640.

FOR FURTHER INFORMATION CONTACT: María L. Pagán, Associate General Counsel, Office of the United States Trade Representative, 600 17th Street, NW., Washington, DC 20508, (202) 395-9626.

SUPPLEMENTARY INFORMATION: USTR is providing notice that consultations have been requested pursuant to the WTO Understanding on Rules and Procedures Governing the Settlement of Disputes (“DSU”). If such consultations should fail to resolve the matter and a dispute settlement panel is established pursuant to the DSU, such panel, which would hold its meetings in Geneva, Switzerland, would be expected to issue a report on its findings and recommendations within nine months after it is established.

Major Issues Raised by China

On September 14, 2009, China requested consultations regarding restrictions recently announced by the United States on imports of Chinese tires. According to China, these restrictions take the form of substantially higher tariffs over the next three years well in excess of the tariff rates permitted under U.S. international obligations to China. The restrictions were announced on September 11, 2009, by U.S. authorities following an investigation pursuant to section 421 of the Trade Act of 1974, as amended (19 U.S.C. 2451). The report by the U.S. International Trade Commission issued as part of the investigation can be found at Certain Passenger Vehicle and Light Truck Tires from the People's Republic of China, Investigation No. TA-421-7, USITC Publication No. 4085 (July 2009). The decision by the President can be found in the Proclamation issued by President Obama on September 11, 2009. The measures are to take effect on September 26, 2009. The request purports to include any other measures the United States may announce to implement the decision.

China alleges that the higher tariffs, not having been justified as emergency action under relevant WTO rules, are inconsistent with Article I:1 of the General Agreement on Tariffs and Trade 1994 (“GATT 1994”). China also alleges that these measures have not been properly justified pursuant to Article XIX of the GATT 1994 and the WTO Agreement on Safeguards. China also alleges that these measures have not been properly justified as China-specific restrictions under the Protocol on the Accession of the People's Republic of China (Protocol of Accession).

Furthermore, China alleges that the U.S. statute authorizing these China-specific restrictions is inconsistent on its face with Article 16 of the Protocol of Accession because, according to China, the statute impermissibly defines “significant cause” more narrowly than required by the ordinary meaning of the phrase as used in Article 16.4 of the Protocol of Accession. Finally, China alleges that each measure, as applied, is also inconsistent with the Protocol of Accession.

Public Comment: Requirements for Submissions

Interested persons are invited to submit written comments concerning the issues raised in this dispute. Persons may submit public comments electronically to http://www.regulations.gov docket number USTR-2009-0035. If you are unable to provide submissions by http://www.regulations.gov, please contact Sandy McKinzy at (202) 395-9483 to arrange for an alternative method of transmission.

To submit comments via http://www.regulations.gov, enter docket number USTR-2009-0035 on the home page and click “search”. The site will provide a search-results page listing all documents associated with this docket. Find a reference to this notice by selecting “Notice” under “Document Type” on the left side of the search-results page, and click on the link entitled “Submit a Comment.” (For further information on using the http://www.regulations.gov Web site, please consult the resources provided on the Web site by clicking on “How to Use This Site” on the left side of the home page.)

The http://www.regulations.gov site provides the option of providing comments by filling in a “Type Comment and Upload File” field, or by attaching a document. It is expected that most comments will be provided in an attached document. If a document is attached, it is sufficient to type “See attached” in the “Type Comment and Upload File” field.

A person requesting that information contained in a comment submitted by that person be treated as confidential business information must certify that such information is business confidential and would not customarily be released to the public by the submitter. Confidential business information must be clearly designated as such and the submission must be marked “BUSINESS CONFIDENTIAL” at the top and bottom of the cover page and each succeeding page. Any comment containing business confidential information must be submitted by fax to Sandy McKinzy at (202) 395-3640. A non-confidential summary of the confidential information must be submitted to http://www.regulations.gov. The non-confidential summary will be placed in the docket and open to public inspection.

Information or advice contained in a comment submitted, other than business confidential information, may be determined by USTR to be confidential in accordance with section 135(g)(2) of the Trade Act of 1974 (19 U.S.C. 2155(g)(2)). If the submitter believes that information or advice may qualify as such, the submitter—

(1) Must clearly so designate the information or advice;

(2) Must clearly mark the material as “SUBMITTED IN CONFIDENCE” at the top and bottom of the cover page and each succeeding page; and

(3) Must provide a non-confidential summary of the information or advice.

Any comment containing confidential information must be submitted by fax. A non-confidential summary of the confidential information must be submitted to http://www.regulations.gov. The non-confidential summary will be placed in the docket and open to public inspection.

USTR will maintain a docket on this dispute settlement proceeding accessible to the public. The public file will include non-confidential comments received by USTR from the public with respect to the dispute; if a dispute settlement panel is convened or in the event of an appeal from such a panel, the U.S. submissions, any non-confidential submissions, or non-confidential summaries of submissions, received from other participants in the dispute; the report of the panel; and, if applicable, the report of the Appellate Body.

Comments will be placed in the docket and open to public inspection pursuant to 15 CFR 2006.13, except confidential business information exempt from public inspection in accordance with 15 CFR 2006.15 or information determined by USTR to be confidential in accordance with 19 U.S.C. 2155(g)(2). Comments open to public inspection may be viewed on the http://www.regulations.gov Web site.

Daniel Brinza,
Assistant United States Trade Representative for Monitoring and Enforcement.

[FR Doc. E9-23829 Filed 10-1-09; 8:45 am]

BILLING CODE 3190-W9-P